DEPARTMENT OF HEALTH AND HUMAN SERVICES

National Institutes of Health

Center for Scientific Review Amended Notice of Meeting

Notice is hereby given of a change in the meeting of the Center for Scientific Review Special Emphasis Panel, March 12, 2013, 08:00 a.m. to March 13, 2013, 06:00 p.m., National Institutes of Health, 6701 Rockledge Drive, Bethesda, MD 20892 which was published in the Federal Register on February 19, 2013, 78 FR 11659.

The meeting title was changed to “Special: Clinical Studies in Nephrology and Urology”. The meeting date, time and location remain the same. The meeting is closed to the public.

Dated: February 25, 2013.
Melanie J. Gray,
Program Analyst, Office of Federal Advisory Committee Policy.

[FR Doc. 2013-04737 Filed 2-28-13; 8:45 am]

BILLING CODE 4140-01-P